DEPARTMENT OF THE INTERIOR

Fish and Wildlife Service

Receipt of Applications of Endangered Species Recovery Permits

AGENCY: Fish and Wildlife Service, Interior.

ACTION: Notice of availability.

SUMMARY: We announce our receipt of applications to conduct certain activities pertaining to scientific research and enhancement of survival of endangered species.

DATES: Written comments on this request must be received February 9, 2004.

ADDRESSES: Written data or comments should be submitted to the Assistant Regional Director-Ecological Services, U.S. Fish and Wildlife Service, P.O. Box 25486, Denver Federal Center, Denver, Colorado 80225-0486; telephone 303-236-7400, facsimile 303-236-0027.

FOR FURTHER INFORMATION CONTACT: Documents and other information submitted with these applications are available for review, subject to the requirements of the Privacy Act and Freedom of Information Act, by any party who submits a written request for a copy of such documents within 20 days of the date of publication of this notice to the address above; telephone 303-236-7400.

SUPPLEMENTARY INFORMATION: The following applicants have requested issuance of survival research and enhancement of survival permits to conduct certain activities with endangered species pursuant to section 10(a)(1)(A) of the Endangered Species Act of 1973, as amended (16 U.S.C. 1531 et seq.).

TE-050706

Applicant: David P. Young, Western Ecosystems Technology, Inc., Cheyenne, Wyoming.

The applicant requests renewal of a permit to take American burying beetle (Nicrophorus americanus) in conjunction with recovery activities throughout the species' range for the purpose of enhancing its survival and recovery.

TE-039100

Applicant: Rockford G. Plettner, Nebraska Public Power District, Columbus, Nebraska.

The applicant requests renewal of a permit to take Interior least terns (Sterna antillarum) in conjunction with recovery activities throughout the species' range for the purpose of enhancing its survival and recovery.

TE-080647

Applicant: Jerald M. Powell, Wildlife Specialties, Lyons, Colorado.

The applicant requests issuance of a permit to take Southwestern willow flycatchers (Empidonax traillii extimus) in conjunction with recovery activities throughout the species' range for the purpose of enhancing its survival and recovery.

Dated: December 30, 2003.
Ralph O. Morgenweck,
Regional Director, Denver, Colorado.

[FR Doc. 04-423 Filed 1-8-04; 8:45 am]

BILLING CODE 4310-55-P